DEPARTMENT OF AGRICULTURE

Foreign Agricultural Service

Consultative Group to Eliminate the Use of Child Labor and Forced Labor in Imported Agricultural Products.

AGENCY: Foreign Agricultural Service, USDA.

ACTION: Notice of public meeting.

SUMMARY: Notice is hereby given that the U.S. Department of Agriculture (USDA) will be holding a public meeting of the Consultative Group to Eliminate the Use of Child Labor and Forced Labor in Imported Agricultural Products (Consultative Group) on March 29, 2010. The sole purpose of the meeting is to solicit input from the public regarding the Consultative Group's statutory mandate to develop recommendations relating to a standard set of practices for independent, third-party monitoring and verification for the production, processing, and distribution of agricultural products or commodities to reduce the likelihood that agricultural products or commodities imported into the United States are produced with the use of forced labor or child labor. The notice sets forth the process for requesting to appear at the meeting, and for submitting written statements. On June 18, 2008, the President signed into law the Food, Conservation, and Energy Act of 2008 (the Act), also known as the 2008 Farm Bill. The Act provides for the creation of the Consultative Group.

DATES: March 18, 2010—Due date for submission of requests to make an oral statement at the public meeting. (See Requirement for Submissions and Meeting Procedures below.)

March 22, 2010—Due date to notify intention to attend the public meeting without making a statement or to request special accommodations.

March 29, 2010—Public meeting for the Consultative Group to Eliminate the Use of Child Labor and Forced Labor in Imported Agricultural Products, Room 104-A, Jamie L. Whitten Building, 12th and Jefferson Drive, SW., Washington, DC 20250, beginning at 9:30 a.m.

April 30, 2010—Final date for submission of written statements.

ADDRESSES: You may make written submissions by any of the following methods: by mail to the Office of Negotiations and Agreements, Foreign Agricultural Service, U.S. Department of Agriculture, Stop 1040, 1400 Independence Ave., SW., Washington, DC 20250; or by hand (including DHL, FedEx, UPS, etc.) to the Office of Negotiations and Agreements, Foreign Agricultural Service, U.S. Department of Agriculture, Room 4133-S, 1400 Independence Ave., SW., Washington, DC 20250; or by e-mail to: Steffon.Brown@fas.usda.gov; or by fax to (202) 720-0340.

FOR FURTHER INFORMATION CONTACT: The Office of Negotiations and Agreements by phone on (202) 720-6219; by e-mail addressed to Steffon.Brown@fas.usda.gov; or by mail addressed to the Office of Negotiations and Agreements, Foreign Agricultural Service, U.S. Department of Agriculture, Stop 1040, 1400 Independence Ave., SW., Washington, DC 20250.

SUPPLEMENTARY INFORMATION: In written submissions and statements to the Consultative Group as part of this public meeting, parties are asked to provide information or comment on the following issues:

(a) Examples of identification, monitoring, verification, and/or certification systems, or other models, that have been successful in reducing child labor and/or forced labor in the global supply chains within the agricultural sector or other industries;

(b) The roles and responsibilities that may be appropriate for the business sector and other stakeholders (governments, unions, non-governmental organizations, and others) in establishing independent, third-party monitoring and verification systems for the production, processing, and distribution of agricultural products or commodities;

(c) Other information that would be useful to the Consultative Group in meeting its mandate to develop recommendations relating to a standard set of practices for independent, third-party monitoring and verification for the production, processing, and distribution of agricultural products or commodities to reduce the likelihood that agricultural products or commodities imported into the United States are produced with the use of forced labor or child labor.

Section 3205 of the Food, Conservation, and Energy Act of 2008 (Farm Bill, Pub. L. 110-246) created the Consultative Group to Eliminate the Use of Child Labor and Forced Labor in Imported Agricultural Products to develop recommendations relating to a standard set of practices for independent, third-party monitoring and verification for the production, processing, and distribution of agricultural products or commodities to reduce the likelihood that agricultural products or commodities imported into the United States are produced with the use of forced labor or child labor. Recommendations developed by the Consultative Group are to be submitted to the Secretary of Agriculture by June 18, 2010. By June 18, 2011, the Secretary is required to release guidelines for a voluntary initiative to enable entities to address issues raised by the Trafficking Victims Protection Act of 2000 (22 U.S.C. 7101 et seq.). The guidelines must be published in the Federal Register and made available for public comment for a period of 90 days. The Consultative Group will terminate on December 31, 2012.

On September 23, 2009, Secretary of Agriculture Thomas J. Vilsack appointed 13 members to the Consultative Group. The group consists of both government and non-government members, including members from USDA; the U.S. Department of Labor; and the U.S. Department of State. Non-government members include three members from the agriculture-related private sector; two members from institutions of higher education and research; one member from an organization providing independent, third-party certification services for labor standards; and three members from non-profit organizations with expertise on international child labor and forced labor issues.

Requirements for Submissions and Meeting Procedures

Submissions in response to this notice must be made in English with any written submission not to exceed 30 single-spaced standard letter-size pages in 12-point type, including attachments. By March 18, 2010, all interested parties wishing to make an oral statement at the meeting must submit the name, address, telephone number, facsimile number, and e-mail address of the attendee(s) representing their organization by e-mail to Steffon.Brown@fas.usda.gov. Requests to present oral statements must be accompanied by a written statement which, at a minimum, identifies key issues to be addressed in the oral statement. Depending on the number of identified participants, oral statements before the Consultative Group may be subject to time limits in order to accommodate all participants. The meeting will be open to the public, and a transcript will be made available for public inspection or can be purchased from the reporting company. USDA is a controlled access facility. Therefore, individuals who wish to attend the meeting without making a statement must also register with the Consultative Group so that arrangements can be made for them to be allowed to enter the facility. Persons who wish to register or to request special accommodations for a disability or other reasons must submit a notification by e-mail to Steffon.Brown@fas.usda.gov. by March 22, 2010. No electronic media coverage will be allowed. Press inquiries should be directed to the USDA, Office of Communications at (202) 720-4623.

Signed at Washington, DC on March 4, 2010.
John D. Brewer,
Administrator, Foreign Agricultural Service.

[FR Doc. 2010-5227 Filed 3-8-10; 4:15 pm]

BILLING CODE 3410-10-P